DEPARTMENT OF HOMELAND SECURITY

Federal Emergency Management Agency

[Docket ID: FEMA-2020-0030; OMB No. 1660-0002]

Agency Information Collection Activities: Proposed Collection; Comment Request; Disaster Assistance Registration

AGENCY: Federal Emergency Management Agency, DHS.

ACTION: 60-Day notice and request for comments.

SUMMARY: The Federal Emergency Management Agency, as part of its continuing effort to reduce paperwork and respondent burden, invites the general public to take this opportunity to comment on a revision of a currently approved information collection. In accordance with the Paperwork Reduction Act of 1995, this notice seeks comments concerning Disaster Assistance Registration.

DATES: Comments must be submitted on or before November 13, 2020.

ADDRESSES: To avoid duplicate submissions to the docket, please use the following means to submit comments:

Online. Submit comments at www.regulations.gov under Docket ID FEMA-2020-0030 Follow the instructions for submitting comments.

All submissions received must include the agency name and Docket ID. All submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Brian Thompson, Supervisory Program Specialist, FEMA, Recovery Directorate, Brian.Thompson6@fema.dhs.gov, 540-686-3602. You may contact the Information Management Division for copies of the proposed collection of information at email address: FEMA-Information-Collections-Management@fema.dhs.gov.

SUPPLEMENTARY INFORMATION: The Robert T. Stafford Disaster Relief and Emergency Assistance Act (Pub. L. 93-288, 42 U.S.C. 5121, et seq.) (the Stafford Act), as amended, is the legal basis for the Federal Emergency Management Agency (FEMA) to provide financial assistance and services to individuals who apply for disaster assistance benefits in the event of a federally-declared disaster. Title 44 CFR, Part 206, Subpart D, “Federal Assistance to Individuals and Households,” provides the regulatory framework implementing the policy and procedures set forth in § 408 of the Stafford Act. This program provides financial assistance and, if necessary, direct assistance to eligible individuals and households who, as a direct result of a major disaster, have necessary expenses and serious needs that are unable to be met through other means. Individuals and households may apply for assistance (Registration Intake) under the Individuals and Households program in person, via telephone, or internet.

Collection of Information

Title: Disaster Assistance Registration.

Type of Information Collection: Revision of a currently approved information collection.

OMB Number: 1660-0002.

FEMA Forms: FEMA Form 009-0-1T (English) Tele-Registration, Disaster Assistance Registration; FEMA Form 009-0-1Int (English) internet, Disaster Assistance Registration; FEMA Form 009-0-2Int (Spanish) internet, Registro Para Asistencia De Desastre; FEMA Form 009-0-1 (English) Paper Application, Disaster Assistance Registration; FEMA Form 009-0-2 (Spanish), Solicitud en Papel, Registro Para Asistencia De Desastre; FEMA Form 009-0-3 (English), Declaration and Release; FEMA Form 009-0-4 (Spanish), Declaración Y Autorización; FEMA Form 009-0-5 (English), Manufactured Housing Unit Revocable License and Receipt for Government Property; FEMA Form 009-0-6 (Spanish), Las Casas Manufacturadas Unidad Licencia Revocable y Recibo de la Propiedad del Gobierno; Request for Information.

Abstract: The forms in this collection are used to obtain pertinent information to provide financial assistance, and if necessary, direct assistance to eligible individuals and households who, as a direct result of a disaster or emergency, have uninsured or under-insured, necessary or serious expenses they are unable to meet. To provide meaningful access to individuals with disabilities throughout FEMA programs, the revision to the collection will obtain pertinent disability-related information.

Affected Public: Individuals or Households.

Estimated Number of Respondents: 1,004,488.

Estimated Number of Responses: 1,004,488.

Estimated Total Annual Burden Hours: 356,007.

Estimated Total Annual Respondent Cost: $13,368,063.

Estimated Respondents' Operation and Maintenance Costs: $0.

Estimated Respondents' Capital and Start-Up Costs: $0.

Estimated Total Annual Cost to the Federal Government: $32,192,627.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Deputy Director of Information Management, Mission Support, Federal Emergency Management Agency, Department of Homeland Security.

[FR Doc. 2020-20191 Filed 9-11-20; 8:45 am]

BILLING CODE 9111-23-P